DEPARTMENT OF THE INTERIOR

National Park Service

Draft Environmental Impact Statement/General Management Plan; Ross Lake National Recreation Area, Skagit and Whatcom Counties, WA; Notice of Availability

SUMMARY: Pursuant to § 102(2)(C) of the National Environmental Policy Act of 1969 (Pub. L. 91-190, as amended), and the Council on Environmental Quality Regulations (40 CFR part 1500-1508), the National Park Service (NPS), Department of the Interior, has prepared a draft environmental impact statement for the proposed General Management Plan (GMP) for Ross Lake National Recreation Area (Ross Lake NRA) in Washington State. Ross Lake NRA is one of three units comprising the North Cascades National Park Service Complex. The draft GMP describes three “action” alternatives that respond to both NPS planning requirements and to the public's concerns and issues, identified during the scoping and public involvement process. Each alternative presents management strategies for resource protection and preservation, education and interpretation, visitor use and facilities, land protection and boundaries, and long-term operations and management of Ross Lake NRA.

The potential environmental consequences of all the alternatives, and mitigation strategies, are identified and analyzed in the DEIS. In addition to the “action” alternatives, a “no action” baseline alternative is considered, and the “environmentally preferred” course of action is identified. This GMP will replace portions of the 1988 North Cascades NPS Complex GMP that provided early guidance for managing Ross Lake NRA.

Background: A Notice of Intent formally announcing preparation of the GMP and draft environmental impact statement (DEIS) was published in the Federal Register on October 30, 2006. The NPS also publicized the public scoping period and invited public comment through newsletters, press releases, correspondence, public workshops, informal meetings, and Web site announcements. Preliminary public outreach began in late September 2006 with release of an initial newsletter announcing onset of the planning process and soliciting feedback on issues to be addressed in the plan; the newsletter was mailed to approximately 350 individuals and entities on the mailing list.

An extensive public outreach effort was undertaken to elicit early public comment regarding issues and concerns, the nature and extent of potential environmental impacts, and possible alternatives that should be addressed in drafting the GMP. Agencies, organizations, governmental representatives, and tribal governments were sent letters of invitation to attend the public workshops or individual meetings. Press releases were distributed to local and regional news media. In addition, the conservation planning effort was launched on the http://parkplanning.nps.gov/rola and the http://www.nps.gov/rola Web sites to provide ready access to information about Ross Lake NRA and the GMP process. News articles featuring the public workshops were published in the local Courier Times and East Skagit Community News and announced on private and public radio stations. The public was invited to submit comments by regular mail, e-mail, fax, online, and at public workshops and individual meetings.

Seven public workshops were hosted in western Washington and southern British Columbia during October 2006; meetings began with a presentation of Ross Lake NRA and the GMP planning process, then transitioned into a facilitated group discussion format. Meetings were held in Washington State in Concrete, Marblemount, Sedro-Woolley, Seattle and Bellingham, and in Surrey and Chilliwack, British Columbia. A total of 63 people attended the meetings overall.

During the initial scoping period, correspondence was received from over 80 individuals and organizations that yielded over 750 specific comments. All comments received were carefully reviewed by the NPS interdisciplinary planning team in preparing the DEIS/GMP, and are preserved in the project administrative record.

The NPS conducted an additional round of public involvement at the draft alternatives phase to ensure full public awareness of the proposed range of alternatives. The primary purpose of this planning step was to understand the public's concerns and preferences with regard to the range of draft alternatives and to assist the planning team in refining the draft alternatives and selecting a preferred alternative. This effort was initiated in February 2008 when the NPS produced and mailed the Draft Alternatives Newsletter to approximately 450 contacts on Ross Lake NRA's mailing list (it was also announced on the project Web sites). The Newsletter fully outlined concepts and actions in the draft alternatives and proposed management zones, and contained a business reply questionnaire providing an option for the public to comment on the four draft alternatives. Press releases were prepared and mailed to local media in advance of the public meetings. A total of 32 written responses concerning the draft alternatives were received in the form of letters, e-mails, newsletter questionnaires, and internet comments. The NPS also hosted four public workshops in Concrete, Sedro-Woolley, Bellingham, and Seattle in February and March 2008. Seventy people participated in the public workshops and provided oral comments. In total 539 individual comments were received on the draft alternatives and covered a broad range of topics, issues, and recommendations for Ross Lake NRA.

Proposed Plan and Alternatives: Alternative A is the “no action” alternative and assumes that existing programming, facilities, staffing, and funding would generally continue at their current levels. This alternative serves as a baseline for comparison in evaluating the changes and impacts of the three “action” alternatives. This alternative emphasizes continued protection of the values of Ross Lake NRA without substantially increasing staff, programs, funding support, or facilities. Resource preservation and protection would continue to be high priority, and park staff would continue to work with neighboring agencies for collaborative ecosystem management. Management of visitor use and facilities would generally continue through existing levels and types of service and regulation. Additional visitor facilities, such as new buildings, structures, roads, parking areas, camping areas, and trails, would not be constructed. The park would react to catastrophic events and any ensuing destruction of visitor facilities on a case-by-case basis, which could result in a net loss of visitor facilities.

Alternative B (agency-preferred) focuses on managing Ross Lake NRA as a gateway to millions of acres of wild lands, providing enhanced visitor opportunities along the North Cascades Highway and making better use of facilities along that corridor, while ensuring the long term stewardship of natural resources, cultural resources, and Wilderness. The North Cascades Highway corridor would be managed to provide a variety of day-use and overnight recreational opportunities for visitors with a range of abilities and interests. Management of Wilderness and backcountry areas would focus on ecosystem preservation and compatible recreational activities. Interpretation and education would be a key component of this alternative, emphasizing “hands-on” experiential learning and stewardship programs delivered by both the NPS and its partners.

Recreation in Ross Lake NRA would be enhanced along the North Cascades Highway corridor through the addition of limited new facilities, including dayhiking trails, reconfigured parking areas, a new Wilderness Information Center, and the modest expansion of overnight facilities and concessions. Recreation in the Wilderness and backcountry areas of Ross Lake NRA, including Ross Lake, would focus on providing visitors with opportunities for solitude and connections with the natural world. Self-propelled and non-mechanized recreation would be encouraged throughout Ross Lake NRA. Regulations for motorized water recreation would work to maintain the ambient character and experience on the lakes and the Skagit River, while also moving towards cleaner technologies. An online reservation and permit system would allow visitors the opportunity for advance trip planning. If a catastrophic event led to destruction of visitor facilities, the NPS would strive to offer similar visitor facilities in the vicinity while ensuring no net loss of visitor opportunities. Alternative B is also considered to be “environmentally preferred.”

Alternative C emphasizes the role of Ross Lake NRA in preserving the greater North Cascades ecosystem, which includes two additional units of the National Park System, two national forests, as well as provincial parks and protected areas across the Canadian border. Park management and education efforts would focus on broader ecosystem preservation and enhancement through coordinated regional and international environmental stewardship. The focus of visitor experiences would be linked to solitude, tranquility, natural soundscapes, and scenery through traditional outdoor activities. The NPS would actively strive to reduce habitat fragmentation throughout Ross Lake NRA by consolidating development, eliminating certain trails, and limiting construction of new facilities in undeveloped areas. Structured educational and interpretive opportunities would take precedence, and the NPS would increasingly rely on partners to deliver educational and interpretive programs both on-site and off-site.

Alternative C would provide visitor recreational opportunities along the North Cascades Highway. However, there would be no net increase in miles of trail in Ross Lake NRA. In the backcountry and Wilderness, Alternative C would focus on resource preservation and enhancement and limiting and/or restricting some recreational uses. Seaplanes would not be allowed to land on lakes, and the NPS would recommend restricting commercial scenic air tours within Ross Lake NRA to protect and enhance soundscapes and wilderness character, experience, and values. Should a catastrophic weather event result in destruction of visitor facilities, natural geomorphological processes would be allowed to occur unimpeded wherever possible and affected facilities, including Colonial and Goodell Campgrounds, would be closed and restored to natural conditions.

Alternative D focuses on improving connections between visitors and the outdoors through a variety of enhanced recreation and learning opportunities. The emphasis of park management would be to diversify Ross Lake NRA's visitor base and build stewardship through more “hands-on” experiential recreation and education opportunities. Interpretive and educational programs would be offered by both the NPS and partners with expanded offerings in the backcountry and limited areas in Wilderness. Park management would continue to protect resources and minimize impacts from visitor use.

Overnight accommodations, several new trails, and additional visitor amenities would expand visitor opportunities in Ross Lake NRA primarily along the North Cascades Highway corridor. The public functions of the Wilderness Information Center would be moved to an easily accessible location on Highway 20. A wide variety of recreational activities would be allowed throughout Ross Lake NRA, and there would be fewer restrictions on recreational activities than under the other alternatives. An online reservation and permit system would allow visitors the opportunity for advance trip planning. In the event of a catastrophic event and destruction of any visitor facilities, the NPS would close affected facilities and build new facilities on other locations to ensure no net loss of visitor opportunities.

Elements Common to All Action Alternatives: Several proposed actions are common to all action alternatives. Among those actions, the NPS would work with Seattle City Light to exchange lands at Diablo Townsite and plan for future management and use of the Hollywood site. Thunder Creek Potential Wilderness Area would be converted to Wilderness and included in the Stephen Mather Wilderness. Climate change impacts and Ross Lake NRA's carbon footprint would be addressed through a variety of strategies and actions including the reduction of emissions, use of green energy, adaptive management, and support for scientific research and educational programs.

Public Review and Comment: The Draft GMP/EIS is now available for public review. All comments must be postmarked or otherwise provided not later than September 30, 2010. Comments may be submitted using any one of several methods. Your response may be transmitted via the project Web site at http://parkplanning.nps.gov/rola. A postage-paid comment response form included in the Draft General Management Plan Alternatives Newsletter may be used. Letters may also be mailed to the Superintendent, North Cascades NPS Complex, 810 State Route 20, Sedro-Woolley, Washington 98284. Finally, comments may be made in person or hand delivered at one of the upcoming public workshops that the park expects to conduct in late July 2010. Confirmed details on dates, times, and locations for workshops will be announced in local newspapers, in the Draft General Management Plan Alternatives Newsletter, and on the project Web sites; current information may also be obtained via telephone at (360) 854-7200.

Before including your address, phone number, e-mail address, or other personal identifying information in your comment, you should be aware that your entire comment—including your personal identifying information—may be made publicly available at any time. While you can ask us in your comment to withhold your personal identifying information from public review, we cannot guarantee that we will be able to do so.

Decision Process: Following the opportunity to review the DEIS/GMP, all comments received will be carefully considered in preparing the final document. This document is anticipated to be completed during the fall and winter of 2010 and its availability will be similarly announced in the Federal Register and via local and regional press media. As a delegated EIS, the official responsible for the final decision is the Regional Director, Pacific West Region; subsequently the official responsible for implementation of the approved GMP would be the Superintendent, North Cascades NPS Complex.

Dated: May 28, 2010.
George J. Turnbull,
Acting Regional Director, Pacific West Region.

[FR Doc. 2010-17327 Filed 7-15-10; 8:45 am]

BILLING CODE 4312-GX-P